DEPARTMENT OF ENERGY

10 CFR Part 431

[Docket Number EERE-2014-BT-PET-0041]

Energy Conservation Program for Certain Commercial and Industrial Equipment: Walk-in Coolers and Freezers; Test Procedure

AGENCY: Office of Energy Efficiency and Renewable Energy, Department of Energy.

ACTION: Notice of public meeting.

SUMMARY: The Department of Energy (DOE) is planning to hold a public meeting to discuss the various aspects related to testing and calculating the energy efficiency ratings for refrigeration systems used in walk-in coolers and freezers (WICFs). The discussion will focus solely on the mechanics of measuring the relevant values and the downstream calculations needed to rate the efficiency of WICF refrigeration system basic models that are either sold as mixed or matched systems.

DATES: Meeting: DOE will hold a public meeting on Wednesday, October 22, 2014 from 9:00 a.m. to 1:00 p.m. in Washington, DC. In addition, DOE plans to broadcast the public meeting via webinar. You may attend the public meeting either in person or via webinar. Registration information, participant instructions, and also information about the capabilities available to webinar participants will be published in advance on DOE's Web site at: http://www.eere.energy.gov/buildings/appliance_standards/product.aspx/productid/26. Webinar participants are responsible for ensuring their systems are compatible with the webinar software.

ADDRESSES: U.S. Department of Energy, Forrestal Building, 1000 Independence Avenue SW., Washington, DC 20585, Room GH-019. To attend, please notify Ms. Brenda Edwards at (202) 586-2945. Please note that foreign nationals visiting DOE Headquarters are subject to advance security screening procedures. Any foreign national wishing to participate in the meeting should advise DOE as soon as possible by contacting Ms. Edwards to initiate the necessary procedures. Please also note that any person wishing to bring a laptop into the Forrestal Building will be required to obtain a property pass. Visitors should avoid bringing laptops, or allow an extra 45 minutes. Persons may also attend the public meeting via webinar.

Due to the REAL ID Act implemented by the Department of Homeland Security (DHS), there have been recent changes regarding ID requirements for individuals wishing to enter Federal buildings from specific states and U.S. territories. Driver's licenses from the following states or territory will not be accepted for building entry and one of the alternate forms of ID listed below will be required.

DHS has determined that regular driver's licenses (and ID cards) from the following jurisdictions are not acceptable for entry into DOE facilities: Alaska, American Samoa, Arizona, Louisiana, Maine, Massachusetts, Minnesota, New York, Oklahoma, and Washington. Acceptable alternate forms of Photo-ID include: U.S. Passport or Passport Card; an Enhanced Driver's License or Enhanced ID-Card issued by the states of Minnesota, New York or Washington (Enhanced licenses issued by these states are clearly marked Enhanced or Enhanced Driver's License); a military ID or other Federal government issued Photo-ID card.

FOR FURTHER INFORMATION CONTACT: Ashley Armstrong, U.S. Department of Energy, Office of Energy Efficiency and Renewable Energy, Building Technologies Program, EE-5B, 1000 Independence Avenue SW., Washington, DC 20585-0121, (202) 586-6590, email: Ashley.Armstrong@ee.doe.gov. Michael Kido, U.S. Department of Energy, Office of General Counsel, GC-71, 1000 Independence Avenue SW., Washington, DC 20585, (202) 586-8145, email: Michael.Kido@hq.doe.gov.

SUPPLEMENTARY INFORMATION: The U.S. Department of Energy (DOE) is holding a public meeting to discuss a variety of issues related to the testing and calculation of the energy efficiency of refrigeration systems used in walk-in coolers and walk-in freezers (collectively, “walk-ins” or “WICFs”). A walk-in is an enclosed storage space refrigerated to temperatures “above, and at or below” (depending on whether it is a cooler or freezer) 32 °F that can be walked into, and has a total chilled storage area of less than 3,000 square feet. See 42 U.S.C. 6311(20). Each walk-in is comprised of three key types of components: Panels used for the ceiling, walls, and (for freezers) the floor; at least one door; and a refrigeration system.

At its most basic level, a refrigeration system uses two primary components—an evaporator coil unit and a condensing unit. Both of these components are connected together through the use of a refrigerant line. Within the refrigeration system market, some manufacturers produce both components, effectively creating a complete system for purposes of being able to rate the efficiency of a given walk-in refrigeration system. Other manufacturers, however, produce only the evaporator coils or the condensing unit. Recent modifications to DOE's WICF test procedure enable manufacturers in these single component-only scenarios to readily calculate the energy efficiency of their respective unit using specified default values for the other refrigeration system component that they do not manufacture. See 79 FR 27388 (May 13, 2014). Those recent modifications also allow manufacturers of walk-in refrigeration systems to use a mathematical model or computer simulation, known generically as alternative efficiency determination methods (AEDMs), in lieu of conducting a test when rating a WICF refrigeration system's energy efficiency.

The scheduled meeting is intended to assist interested parties, particularly those individual manufacturers who produce only one of the two primary refrigeration system components noted above, with applying DOE's calculation methodology when rating the efficiency of that manufacturer's component. This calculation methodology must be used when determining whether a manufacturer's individual component complies with the applicable energy conservation standards DOE recently issued, compliance with which is required as of June 5, 2017. See 79 FR 32050 (June 3, 2014).

DOE plans to discuss the following issues:

• The scope of the refrigeration system test procedure, particularly, identifying which refrigeration components fall within the scope of DOE's walk-in regulations;

• the operation of the test procedure's methodology, including the methods used to calculate defrost energy consumption;

• the application of the test procedure when rating different walk-in refrigeration systems (i.e., mixed versus matched systems);

• the calculation of the ratings of a given walk-in refrigeration system component when only component (i.e. the evaporator coil unit or condenser unit) is produced; and

• the AEDM requirements as they apply to walk-in refrigeration systems.

DOE encourages all interested persons to submit questions to DOE that are relevant to the above topics in advance of the meeting date to ensure that the agency is able to fully address these topics. As the intent of this meeting is to help manufacturers to better understand how to rate their equipment, DOE will not be discussing the methodology or analysis used in developing the recently amended energy conservation standards for walk-in refrigeration systems.

Issued in Washington, DC, on September 23, 2014.
Kathleen B. Hogan,
Deputy Assistant Secretary for Energy Efficiency, Energy Efficiency and Renewable Energy.

[FR Doc. 2014-23417 Filed 9-30-14; 8:45 am]

BILLING CODE 6450-01-P